DEPARTMENT OF HOMELAND SECURITY

Federal Emergency Management Agency

[Docket ID FEMA-2011-0017; OMB No. 1660-0040]

Agency Information Collection Activities: Submission for OMB Review; Comment Request, Standard Flood Hazard Determination Form

AGENCY: Federal Emergency Management Agency, DHS.

ACTION: Notice.

SUMMARY: This is a correction to the previous notice that was published on October 19, 2011, 76 FR 64957. FEMA is requesting revision of OMB control number 1660-0040, FEMA Form 086-0-32 (previously FEMA Form 81-93), Standard Flood Hazard Determination Form (SFHDF). The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before December 21, 2011.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or email address FEMA-Information-Collections-Management@dhs.gov.

SUPPLEMENTARY INFORMATION: FEMA received two comments from two commenters, the Association of State Floodplain Managers (ASFPM) and the National Flood Determination Association (NFDA). ASFPM submitted five suggestions. In Section I; box 2 (description of the collateral) of the form, it was suggested that FEMA include a broader list of descriptive information to assist those using and reading the form. This has been done. In Section II; Part C; Box 3 (discussing the Coastal Barrier Resources Act (CBRA) and Otherwise Protected Areas (OPA), the commenter requested that FEMA clarify the information in this area; FEMA has made this change. In Section II; Part D. FEMA has restated the choice for when flood insurance is not required by the Flood Disaster Protection Act of 1973 to encourage property owners to remember there is still a flood risk outside the Special Flood Hazard Areas (SFHA) as requested.

FEMA was not able to make two other suggested changes, both involved information that might not be readily available to the entity that fills out the form, and in one instance there were concerns about privacy issues.

The second commenter, NFDA, requested to see the FEMA planned changes prior to final publication, noting that they believe an extension of the Standard Flood Hazard Determination Form, SFHDF without change is acceptable. The changes will be available to the public when those changes are published in the Federal Register.

Collection of Information

Title: Standard Flood Hazard Determination Form.

Type of information collection: Revision of a currently approved collection.

OMB Number: 1660-0040.

Form Titles and Numbers: FEMA Form 086-0-32 (previously FEMA Form 81-93), Standard Flood Hazard Determination Form (SFHDF).

Abstract: FEMA Form 086-0-32 (previously FEMA Form 81-93), SFHDF is used by regulated lending institutions, federal agency lenders, related lenders/regulators, and the Government. Federally regulated lending institutions complete this form when making, increasing, extending, renewing or purchasing each loan for the purpose is of determining whether flood insurance is required and available. The form may also be used by property owner, insurance agents, realtors, community officials for flood insurance related documentation.

Affected Public: Business or other for-profit.

Estimated Number of Respondents: 46,456,460.

Frequency of Response: On occasion.

Estimated Average Hour Burden per Respondent: Standard Flood Hazard Determination Form (SFHDF), 20 minutes.

Estimated Total Annual Burden Hours: 15,330,632 hours.

Estimated Cost: There are no operation and maintenance, or capital and start-up costs associated with this collection of information.

Gary L. Anderson,
Acting Chief Administrative Officer, Mission Support Bureau, Federal Emergency Management Agency, Department of Homeland Security.

[FR Doc. 2011-29940 Filed 11-18-11; 8:45 am]

BILLING CODE 9110-11-P